DEPARTMENT OF TRANSPORTATION

Federal Aviation Administration

14 CFR Part 39

[Docket No. FAA-2019-0481; Product Identifier 2019-NM-058-AD; Amendment 39-21002; AD 2019-24-13]

RIN 2120-AA64

Airworthiness Directives; Airbus SAS Airplanes

AGENCY: Federal Aviation Administration (FAA), Department of Transportation (DOT).

ACTION: Final rule.

SUMMARY: The FAA is adopting a new airworthiness directive (AD) for certain Airbus SAS Model A318 series airplanes, Model A319-111, -112, -113, -114, -115, -131, -132, and -133 airplanes; Model A320-211, -212, -214, -216, -231, -232, and -233 airplanes; and Model A321-111, -112, -131, -211, -212, -213, -231, and -232 airplanes. This AD was prompted by a report that during a maintenance check, cracks were found in a stiffener of a certain lateral window frame. This AD requires repetitive high frequency eddy current (HFEC) inspections for cracking of a stiffener of a certain lateral window frame, and applicable related investigative and corrective actions, as specified in a European Union Aviation Safety Agency (EASA) AD, which is incorporated by reference. The FAA is issuing this AD to address the unsafe condition on these products.

DATES: This AD is effective February 3, 2020.

The Director of the Federal Register approved the incorporation by reference of a certain publication listed in this AD as of February 3, 2020.

ADDRESSES: For the material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at https://www.regulations.gov by searching for and locating Docket No. FAA-2019-0481.

Examining the AD Docket

You may examine the AD docket on the internet at https://www.regulations.gov by searching for and locating Docket No. FAA-2019-0481; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

The EASA, which is the Technical Agent for the Member States of the European Union, has issued EASA AD 2019-0067R1, dated September 11, 2019 (“EASA AD 2019-0067R1”) (also referred to as the Mandatory Continuing Airworthiness Information, or “the MCAI”), to correct an unsafe condition for certain Airbus SAS Model A318 series airplanes, Model A319-111, -112, -113, -114, -115, -131, -132, and -133 airplanes; Model A320-211, -212, -214, -215, -216, -231, -232, and -233 airplanes; and Model A321-111, -112, -131, -211, -212, -213, -231, and -232 airplanes. Model A320-215 airplanes are not on the U.S. Register; this AD therefore does not include those airplanes in the applicability.

The FAA issued a notice of proposed rulemaking (NPRM) to amend 14 CFR part 39 by adding an AD that would apply to all Airbus SAS Model A318 series airplanes, Model A319-111, -112, -113, -114, -115, -131, -132, and -133 airplanes; Model A320-211, -212, -214, -216, -231, -232, and -233 airplanes; and Model A321-111, -112, -131, -211, -212, -213, -231, and -232 airplanes. The NPRM published in the Federal Register on June 24, 2019 (84 FR 29426). The NPRM was prompted by a report that during a maintenance check, cracks were found in a stiffener of a certain lateral window frame. The NPRM proposed to require repetitive HFEC inspections for cracking of a stiffener of a certain lateral window frame, and applicable related investigative and corrective actions.

The FAA is issuing this AD to address cracking of the horizontal upper stiffener of the lateral window frame, which could reduce the structural integrity of the fuselage. See the MCAI for additional background information.

Comments

The FAA gave the public the opportunity to participate in developing this final rule. The following presents the comments received on the NPRM and the FAA's response to each comment.

Request To Revise the Applicability

Emirates Airlines (EAD) requested that the FAA exclude Model A319-115 VIP airplanes from the applicability. EAD commented that the proposed inspection requirements are related to airworthiness limitations (ALI) task 531105-02-1 and ALI task 531105-01-1. EAD also commented that these ALI tasks are not applicable to Model A319-115 VIP airplanes, and after reporting this to EASA, EASA confirmed that this is correct. EAD stated that the EASA AD has been revised to remove Model A319-115 VIP airplanes from the applicability.

The FAA agrees with the commenter's request. This AD now references EASA AD 2019-0067R1. The applicability in paragraph (c) of this AD is now limited to the airplanes identified in AD 2019-0067R1, which excludes certain Model A318 and A319 airplanes, including those identified by EAD. It has been determined that certain Model A318 and A319 airplane configurations could be removed from the applicability of this AD as the compliance time for the initial inspection is beyond the maintenance program publication trigger for those configurations.

Request To Clarify the Applicability

Delta Airlines (DAL) asked whether all manufacturer serial numbers are affected regardless of the applicability specified in EASA AD 2019-0067. DAL stated that in “Required Action(s) and Compliance Time(s)” of EASA AD 2019-0067, operators are instructed to accomplish a special detailed inspection of each affected part “in accordance with” the instructions of the applicable service information. DAL commented that the referenced service information is missing several airplane manufacturer serial numbers.

The FAA agrees to clarify. If there is a discrepancy between the applicability of this AD and the effectivity of the service information, then this AD takes precedence. As noted previously, the applicability of this AD is now limited to the airplanes identified in EASA AD 2019-0067R1. This AD has not been revised regarding this issue.

First Request To Revise the Compliance Time for Reporting

American Airlines (AAL) and United Airlines (UAL) requested that the compliance time for reporting be revised to match that of EASA AD 2019-0067, which is 90 days instead of 30 days as specified in the proposed AD. AAL stated that the requirement to submit inspection results within 30 days would put an undue burden on its operations.

The FAA agrees with the commenters' request. The FAA's standard compliance time for an AD reporting requirement is 30 days; however, the FAA has determined that 90 days is acceptable for this AD. Therefore, the compliance times in paragraphs (h)(3)(i) and (ii) of this AD have been revised to 90 days, which matches the compliance time for reporting in EASA AD 2019-0067R1.

Second Request To Revise the Compliance Time for Reporting

DAL requested that the NPRM allow up to 30 days following the return-to-service date of the visit instead of 30 days from the finding to comply with the reporting requirement. DAL stated that while the visit is ongoing, all of the paperwork remains with the airplane, so while engineering may be aware of the finding, it may not yet have access to the details of the finding or repair until after the visit is closed and the files are sent to the central repository.

The FAA disagrees with the commenter's request. Each operator has a unique AD management program, which comprises methods for demonstrating compliance with the AD in accordance with the applicable operational regulations; therefore, the FAA cannot prescribe or modify an AD based on an individual operator's unique methods of preparing the airplane for compliance. As noted previously, the compliance time for reporting has been changed from 30 to 90 days in this AD. In addition, operators may request approval of an alternative method of compliance (AMOC) using the procedures in paragraph (i)(1) of this AD to request a different compliance time. This AD has not been revised regarding this issue.

Request Regarding No Findings

DAL requested that inspections with no findings not be required to be reported.

The FAA disagrees with the commenter's request. Reporting all findings from the inspections is necessary to assess the extent of the problem in the affected fleet and to develop any additional corrective action that may be necessary. This AD has not been revised regarding this issue.

Request To Include Methods for Reporting and OMB Control Number

DAL requested that the FAA specifically include a “Reporting Requirements” paragraph in the proposed AD and provide the largest number of methods for submitting the report (e.g., email, fax, letter, Airbus Tech Request, service bulletin reporting on the Airbus website). DAL stated that the reporting requirement paragraph should also include the “AD Manual” identifying the “what, how, and when,” and that the “OMB 2120-0056 approved” statement should be included in the regulatory text of the proposed AD, instead of the preamble.

The FAA would like to clarify that the specific reporting requirements are specified in paragraph (h)(3) of this AD and paragraph (7) of EASA AD 2019-0067R1. For clarification, this AD allows the reporting methods that are specified in the service information identified in EASA AD 2019-0067R1, including the methods mentioned by DAL. When reporting is required, the FAA currently includes the OMB Control Number in both the preamble and regulatory text of an AD. OMB Control Number 2120-0056 is included in paragraph (i)(4) of this AD. This AD has not been revised regarding this issue.

Request To Revise Certain Language in the Proposed AD

DAL requested that the language in the proposed AD reflect the corrosion inhibiting compound (CIC) control in the corrosion prevention control program (CPCP) with a statement such as “Reapplication of CICs may be controlled by the operator's CPCP program instead of this SB” or “Reapplication of CICs is not an RC [Required for Compliance] step.” DAL stated that this proposed language could be added to the “Requirements” paragraph, the “Exceptions to EASA AD 2019-0067” paragraph, or the “Other FAA AD Provisions” paragraph in the proposed AD.

DAL commented that the service information states that all steps in the “Procedure and Test” sections are RC. DAL added that some of those procedural steps include re-applying CICs. DAL also stated that the referenced service information is not related to corrosion, and these steps might be part of the modification but should not be RC. DAL commented that since the choice of CICs is under the operators' control within their CPCP program, operators may have to request approval of an AMOC to use their standard CIC rather than what is specified in the service information. DAL also commented that an operator may have to use an old or out-of-date CIC because it is listed in older service information.

The FAA disagrees with the commenter's request. The EASA and Airbus approved the applicable protective finish as a required step to mitigate the risk addressed in this AD, and the FAA agrees that this step should be required. DAL has not proposed an alternative CIC or justified the need for an alternative CIC to complete the protective finish step. Each operator has its own unique CPCP, which may not contain information relative to mitigating the risk addressed in this AD. Operators may request approval of an AMOC using the procedures in paragraph (i)(1) of this AD for using an alternative CIC. This AD has not been revised regarding this issue.

Request To Work on the Airplane Under Certain Circumstances

DAL requested that the FAA revise the proposed AD to allow work on the airplane while it is on jacks, and to define when the operator can or cannot move it (the jacks). DAL stated that since the accomplishment of the proposed AD must be “in accordance with” the service information, “basic airplane configuration” will result in accomplishing the inspections while the airplane is not on jacks. DAL also stated that it has many visits requiring the airplane to be jacked and routinely accomplishes multiple tasks simultaneously during service visits. DAL commented that requiring the service information to be accomplished during that portion of the visit with the weight on wheels limits the ability for the operator to perform the work.

The FAA disagrees with the commenter's request. The FAA cannot prescribe or modify an AD based on an individual operator's unique methods of preparing the airplane for compliance. The FAA encourages DAL to work with the FAA certificate management office in establishing methods needed to prepare the airplane for AD-related work using either Airbus service information, or equivalent, in accordance with DAL's maintenance or inspection program. If necessary, operators may request approval of an AMOC using the procedures specified in paragraph (i)(1) of this AD. The AD has not been changed in this regard.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related IBR Material Under 1 CFR Part 51

EASA AD 2019-0067R1 describes procedures for repetitive HFEC inspections of the horizontal upper stiffener of the lateral window frame on the right-hand (RH) and left-hand (LH) sides for any cracking, and applicable related investigative and corrective actions. This material is reasonably available because the interested parties have access to it through their normal course of business or by the means identified in the ADDRESSES section.

Costs of Compliance

The FAA estimates that this AD affects 1,291 airplanes of U.S. registry. The FAA estimates the following costs to comply with this AD:

Estimated Costs for Required Actions
Labor cost | Parts cost | Cost per product | Cost on U.S. operators
9 work-hours × $85 per hour = $765 | $0 | $765 | $987,615

The FAA estimates the following costs to do any necessary on-condition actions that would be required based on the results of any required actions. The FAA has no way of determining the number of aircraft that might need these on-condition actions:

Estimated Costs of On-Condition Actions *
Labor cost | Parts cost | Cost per product
Up to 13 work-hours × $85 per hour = Up to $1,105 | $0 | Up to $1,105.
* Table does not include estimated costs for reporting and on-condition repairs. The FAA has received no definitive data that would enable the agency to provide cost estimates for the on-condition repairs specified in this AD.

The FAA estimates that it would take about 1 work-hour per product to comply with the on-condition reporting requirement in this AD. The average labor rate is $85 per hour. Based on these figures, the FAA estimates the cost of reporting the inspection results on U.S. operators to be $85 per product.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Send comments regarding this burden estimate or any other aspect of this collection of information, including suggestions for reducing this burden to Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-24-13 Airbus SAS: Amendment 39-21002; Docket No. FAA-2019-0481; Product Identifier 2019-NM-058-AD.

(a) Effective Date

This AD is effective February 3, 2020.

(b) Affected ADs

None.

(c) Applicability

This AD applies to Airbus SAS airplanes identified in paragraphs (c)(1) through (4) of this AD, certificated in any category, as identified in European Union Aviation Safety Agency (EASA) AD 2019-0067R1, dated September 11, 2019 (“EASA AD 2019-0067R1”).

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 53, Fuselage.

(e) Reason

This AD was prompted by a report that during a maintenance check, cracks were found in an upper stiffener of the lateral window frame at the frame 4 upper attachment. The FAA is issuing this AD to address cracking of the horizontal upper stiffener of the lateral window frame, which could reduce the structural integrity of the fuselage.

(f) Compliance

Comply with this AD within the compliance times specified, unless already done.

(g) Requirements

Except as specified in paragraph (h) of this AD: Comply with all required actions and compliance times specified in, and in accordance with, EASA AD 2019-0067R1.

(h) Exceptions to EASA AD 2019-0067R1

(1) For purposes of determining compliance with the requirements of this AD: Where EASA AD 2019-0067R1 refers to its effective date, this AD requires using the effective date of this AD.

(2) The “Remarks” section of EASA AD 2019-0067R1 does not apply to this AD.

(3) Paragraph (7) of EASA AD 2019-0067R1 specifies to report certain inspection results to Airbus. For this AD, report those inspection results at the applicable time specified in paragraph (h)(3)(i) or (ii) of this AD.

(i) If the inspection was done on or after the effective date of this AD: Submit the report within 90 days after the inspection.

(ii) If the inspection was done before the effective date of this AD: Submit the report within 90 days after the effective date of this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0067R1 that contains RC procedures and tests: Except as required by (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(4) Paperwork Reduction Act Burden Statement: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Send comments regarding this burden estimate or any other aspect of this collection of information, including suggestions for reducing this burden to Information Collection Clearance Officer, Federal Aviation Administration, 10101 Hillwood Parkway, Fort Worth, TX 76177-1524.

(j) Related Information

For more information about this AD, contact Sanjay Ralhan, Aerospace Engineer, International Section, Transport Standards Branch, FAA, 2200 South 216th St., Des Moines, WA 98198; telephone and fax 206-231-3223.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2019-0067R1, dated September 11, 2019.

(ii) [Reserved]

(3) For information about EASA AD 2019-0067R1, contact the EASA, Konrad-Adenauer-Ufer 3, 50668 Cologne, Germany; telephone +49 221 89990 6017; email ADs@easa.europa.eu; internet www.easa.europa.eu. You may find this EASA AD on the EASA website at https://ad.easa.europa.eu.

(4) You may view this material at the FAA, Transport Standards Branch, 2200 South 216th St., Des Moines, WA. For information on the availability of this material at the FAA, call 206-231-3195. This material may be found in the AD docket on the internet at https://www.regulations.gov by searching for and locating Docket No. FAA-2019-0481.

(5) You may view this material that is incorporated by reference at the National Archives and Records Administration (NARA). For information on the availability of this material at NARA, email fedreg.legal@nara.gov, or go to: https://www.archives.gov/federal-register/cfr/ibr-locations.html.

Issued in Des Moines, Washington, on December 4, 2019.
Michael Kaszycki,
Acting Director, System Oversight Division, Aircraft Certification Service.

[FR Doc. 2019-28069 Filed 12-27-19; 8:45 am]

BILLING CODE 4910-13-P